DEPARTMENT OF TRANSPORTATION

Federal Aviation Administration

Notice of Release From Federal Grant Assurance Obligations for Reno-Tahoe International Airport, Reno, Nevada

AGENCY: Federal Aviation Administration, DOT.

ACTION: Notice of request to release airport land.

SUMMARY: The Federal Aviation Administration (FAA) proposes to rule and invites public comment on the application for a release of 23,974 square feet (approximately .55 acres) of airport property at Reno-Tahoe International Airport, Reno, Nevada from all conditions contained in the Grant Assurances since the parcel of land is not needed for airport purposes. The property consists of narrow strip of land approximately 25 feet wide by 850 feet long. The property is located approximately 2,500 feet east of the departure end of Reno-Tahoe Airport Runway 7/25. The property is separated from the airport operations area to the west by a public road and several non-aeronautical leaseholds and parking lots. The east side of the property is adjacent to East McCarran Boulevard. The Reno-Tahoe Airport Authority (RTAA) and the Nevada Department of Transportation propose to use the land to widen East McCarran Boulevard, a major arterial road that serves the Reno/Sparks Communities. The widening of the road represents a compatible land use that will not interfere with the airport or its operation. The interest of civil aviation continues to be served by the release. The property will be sold at an appraised fair market value to the State of Nevada, Department of Transportation and the proceeds deposited in the airport account.

DATES: Comments must be received on the proposed land release request from federal obligations on or before December 22, 2014.

FOR FURTHER INFORMATION CONTACT: Comments on the request may be mailed or delivered to the FAA at the following address: Mike N. Williams, Manager, Federal Aviation Administration, Phoenix Airports District Office, Federal Register Comment, 3800 N. Central Avenue, Suite 1025, 10th Floor, Phoenix, Arizona 85012. In addition, one copy of the comment submitted to the FAA must be mailed or delivered Ms. Laurie Weeks, Senior Manager of Properties, Reno-Tahoe Airport Authority, 2001 E. Plumb Lane, Reno, Nevada, 89502.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The Reno-Tahoe Airport Authority (RTAA) of Washoe County, the owner of the Reno-Tahoe International Airport, requested a release from grant assurance obligations for approximately 23,974 square feet of airport land for sale. The property was acquired as separate parcels with federal funding under the Airport Development Aid Program (ADAP), Grant No. 6-32-0017-12, and the Airport Improvement Program, Grant No. 3-32-0017-01 and Grant No. 3-32-0017-04 for noise compatibility and approach protection.

Due to its location and current condition, the property has not been used for aeronautical purposes. The land is currently improved with landscaping only. The landscaping improvements include shrubs, trees, rock ground cover and drip-irrigation. The land is not served by domestic utilities. The land is currently zoned for industrial and commercial uses. The subject land is part of a larger parcel which was leased by the RTAA and developed with industrial/warehouse facilities in 2004. The Nevada Department of Transportation requires the strip of land to accommodate the widening of East McCarran Boulevard, a major arterial roadway in Reno and Sparks, as part of the East McCarran Boulevard Widening Project. Because of the narrow width of the property and adjacency to the existing roadway, the land is not suitable for future airport development. The release and sale of the land will not negatively impact airport operations.

The FAA has determined the proposed release of the property Grant Assurances is categorically excluded from detailed evaluation in accordance with the National Environmental Policy Act. However, the proposed property is located within the 100-year floodplain of the Truckee River. Therefore, the FAA evaluated the proposed release from Grant Assurances in accordance with Executive Order 11988 Floodplain Management, and Department of Transportation Order 5650.2 Floodplain Management and Protection. There is no practicable alternative to constructing the East McCarran Boulevard Widening Project—Phase II in the proposed location, which is in the 100-year floodplain, because the 100-year floodplain extends throughout the project vicinity, and East McCarran Boulevard is a major existing road.

The construction of the East McCarran Boulevard Widening Project—Phase II project after release from Grant Assurances and subsequent conveyance to the Nevada Department of Transportation would not adversely affect beneficial floodplain values such as natural moderation of floodwaters, water quality maintenance, groundwater recharge, fish or wildlife habitat, or any other floodplain value. The existing property consists of artificial landscaping and parking lots which do not possess any beneficial floodplain values and the project is designed so as not to change the water storage capacity of the existing floodplain. As discussed in a Truckee River Flood Management Authority letter of July 11, 2014 to the City of Reno, while the property is within the 100-year floodplain, as part of the East McCarran Boulevard Widening Project—Phase II, the Nevada Department of Transportation intends to provide additional flood water storage capacity at a volumetric ratio of 2:1 to compensate for required project fill associated with the widening project. As part of the FAA's approval of the release of the property from Grant Assurances, the FAA will require that the RTAA condition its sale of the property to the Nevada Department of Transportation with the condition that the Department will implement the project as described in the Truckee River Flood Management Authority letter of July 11, 2014 to the City of Reno, to provide additional flood water storage capacity at a volumetric ratio of 2:1 to compensate for required project fill associated with the East McCarran Boulevard Phase II widening project.

The sale price will be based on an appraised market value and the sale proceeds will be deposited in the airport account to be solely expended for the capital and operating costs of the Reno-Tahoe International Airport. The Reno-Tahoe International Airport, Nevada will be justly compensated, thereby serving the interests of civil aviation.

Issued in Phoenix, Arizona, on November 14, 2014.
Mike N. Williams,
Manager, Phoenix Airports District Office, Western-Pacific Region.

[FR Doc. 2014-27559 Filed 11-19-14; 8:45 am]

BILLING CODE 4910-13-P